DEPARTMENT OF EDUCATION

34 CFR Chapter III

[CFDA Number: 84.133B-10.]

Proposed Priority—National Institute on Disability and Rehabilitation Research—Rehabilitation Research and Training Center

AGENCY: Office of Special Education and Rehabilitative Services, Department of Education.

ACTION: Proposed priority.

SUMMARY: The Assistant Secretary for Special Education and Rehabilitative Services proposes a priority under the Rehabilitation Research and Training Center (RRTC) Program administered by the National Institute on Disability and Rehabilitation Research (NIDRR). Specifically, this notice proposes a priority for an RRTC on Promoting Healthy Aging for Individuals with Long-Term Physical Disabilities. The Assistant Secretary may use this priority for competitions in fiscal year (FY) 2013 and later years. We take this action to focus research attention on an area of national need. We intend the priority to contribute to improved health and function outcomes for individuals aging with long-term physical disabilities.

DATES: We must receive your comments on or before April 5, 2013.

ADDRESSES: Address all comments about this notice to Marlene Spencer, U.S. Department of Education, 400 Maryland Avenue SW., room 5133, Potomac Center Plaza (PCP), Washington, DC 20202-2700.

If you prefer to send your comments by email, use the following address: marlene.spencer@ed.gov. You must include the phrase “Proposed Priority for Promoting Healthy Aging for Individuals with Long-Term Physical Disabilities” in the subject line of your electronic message.

FOR FURTHER INFORMATION CONTACT: Marlene Spencer. Telephone: (202) 245-7532 or by email: marlene.spencer@ed.gov.

If you use a telecommunications device for the deaf (TDD) or a text telephone (TTY), call the Federal Relay Service (FRS), toll free, at 1-800-877-8339.

SUPPLEMENTARY INFORMATION: This proposed priority is in concert with NIDRR's Long-Range Plan (Plan). The Plan, which was published in the Federal Register on February 15, 2006 (71 FR 8165), can be accessed on the Internet at the following site: www.ed.gov/about/offices/list/osers/nidrr/policy.html.

Through the implementation of the Plan, NIDRR seeks to: (1) Improve the quality and utility of disability and rehabilitation research; (2) foster an exchange of expertise, information, and training methods to facilitate the advancement of knowledge and understanding of the unique needs of traditionally underserved populations; (3) determine best strategies and programs to improve rehabilitation outcomes for underserved populations; (4) identify research gaps; (5) identify mechanisms for integrating research and practice; and (6) disseminate findings.

This notice proposes one priority that NIDRR intends to use for one or more competitions in FY 2013 and possibly later years. However, nothing precludes NIDRR from publishing additional priorities, if needed. Furthermore, NIDRR is under no obligation to make an award using this priority. The decision to make an award will be based on the quality of applications received and available funding.

Invitation To Comment: We invite you to submit comments regarding this notice. To ensure that your comments have maximum effect in developing the notice of final priority, we urge you to identify clearly the specific topic that each comment addresses.

We invite you to assist us in complying with the specific requirements of Executive Orders 12866 and 13563 and their overall requirement of reducing regulatory burden that might result from this proposed priority. Please let us know of any further ways we could reduce potential costs or increase potential benefits while preserving the effective and efficient administration of the program.

During and after the comment period, you may inspect all public comments about this proposed priority in room 5133, 550 12th Street SW., PCP, Washington, DC, between the hours of 8:30 a.m. and 4:00 p.m., Washington, DC time, Monday through Friday of each week except Federal holidays.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The purpose of the Disability and Rehabilitation Research Projects and Centers Program is to plan and conduct research, demonstration projects, training, and related activities, including international activities, to develop methods, procedures, and rehabilitation technology that maximize the full inclusion and integration into society, employment, independent living, family support, and economic and social self-sufficiency of individuals with disabilities, especially individuals with the most severe disabilities, and to improve the effectiveness of services authorized under the Rehabilitation Act of 1973, as amended (Rehabilitation Act).

Rehabilitation Research and Training Centers

The purpose of the RRTCs, which are funded through the Disability and Rehabilitation Research Projects and Centers Program, is to achieve the goals of, and improve the effectiveness of, services authorized under the Rehabilitation Act through advanced research, training, technical assistance, and dissemination activities in general problem areas, as specified by NIDRR. These activities are designed to benefit rehabilitation service providers, individuals with disabilities, and the family members or other authorized representatives of individuals with disabilities. Additional information on the RRTC program can be found at: www.ed.gov/rschstat/research/pubs/res-program.html#RRTC.

Program Authority: 29 U.S.C. 762(g) and 764(b)(2).

Applicable Program Regulations: 34 CFR part 350.

Proposed Priority

This notice contains one proposed priority.

RRTC on Promoting Healthy Aging for Individuals with Long-Term Physical Disabilities.

Background

Of the 51.5 million adults with a disability, 41.5 million have disabilities in the physical domain (Brault, 2012). These numbers will likely grow significantly in the next 25 to 30 years as the baby boom generation continues to enter later life, when the risk of disability is the highest (IOM, 2007).

In 2010, 29.5 million Americans aged 21 to 64, or 16.6 percent of the working-age population, reported disabilities (Brault, 2012). This large working-age group includes people who are aging with life-long and early-onset disabilities that were once associated with shortened life expectancy (IOM, 2007; Jensen et al., 2011; Kemp & Mosqueda, 2004). This segment of the disabled population with early-onset, life-long disabilities is now experiencing the benefits of increased longevity as well as premature or atypical aging related to their conditions (Groah et al., 2012; IOM, 2007; Jensen et al., 2011; Kemp & Mosqueda, 2004).

Aging with disability is now a common experience of individuals with significant physical disabilities (Kemp & Mosqueda, 2004). We still lack national statistics on the size of this emerging population due to limitations in major national surveys that track disability, which do not collect information on age of onset or duration of primary disability (IOM, 2007; Washko et al., 2012). However, the most recent estimates available indicate that approximately seven to nine percent of adults had a disability with onset before age 20, and approximately 20 to 30 percent experienced the onset of their disability between ages 20 and 44 (Verbrugge & Yang, 2002).

Regardless of timing of onset, as individuals with long-term disabilities age, many face significant new challenges to their health and independence due to the onset of secondary conditions associated with changes in the underlying impairment (Groah et al., 2012; IOM, 2007; Jensen et al., 2011; Kemp & Mosqueda, 2004; Kinny et al., 2004). The Institute of Medicine has defined a “secondary condition” as “any additional physical or mental health condition that occurs as a result of having a primary disabling condition,” including pain, fatigue, and muscle weakness (IOM, 2007).

Working-age individuals living with long-term disabilities may also experience atypical or accelerated aging due to earlier onset and higher rates of age-related chronic conditions compared to their same-age non-disabled counterparts (Groah et al., 2012; IOM, 2007; Jensen et al., 2011). These chronic health problems may include, for example, osteoarthritis, osteoporosis, falls, chronic respiratory conditions, diabetes, and heart disease (Freid et al., 2012; Iezzoni, 2010; Jensen et al., 2011; Kemp & Mosqueda, 2004; Kinny et al., 2004; Ravesloot et al., 2007).

Addressing the rehabilitation and health care needs of individuals aging with disabilities involves challenges for providing and coordinating a range of appropriate health care services, financing those services, and evaluating their ongoing effectiveness (Iezzoni, 2010; Washko et al., 2012). Considerable anecdotal evidence and numerous small-scale studies indicate that the negative effects of secondary conditions can be managed and even prevented through rehabilitation and health-promotion activities (Groah et al., 2012; Harrison, 2006; Jensen et al., 2011; Ravesloot et al. 2007 & 2005; Rimmer et al., 2000). However, there are few evidence-based interventions to promote healthy aging of individuals with physical disabilities outside of the post-acute setting (Groah et al., 2012; Harrison, 2006; Jensen et al., 2011). Only recently has the topic of secondary conditions and aging with disability begun to receive attention in the public health and gerontology literatures (Groah & Kehn, 2010; Iezzoni, 2010; Ravesloot et al., 2007; Washko et al., 2012).

The limitations in evidence-based information available to guide the treatment, management, and prevention of secondary conditions and to promote the overall health of individuals aging with physical disability is of particular concern given demographic trends (Harrison, 2006; Jensen et al., 2011; Ravesloot et al., 2007). For example, of the 27 objectives identified for improvement in the most recent Healthy People 2020 initiative, under the topic area of “Disability and Health” only four evidence-based community interventions are cited to guide implementation of these objectives. None of these objectives focus on prevention of secondary conditions or health promotion programs for individuals with long-term disabilities (Healthy People 2020, 2010).

To respond to the challenges and opportunities at the intersection of aging and disability, NIDRR proposes to fund a Rehabilitation Research and Training Center (RRTC) on Promoting Healthy Aging for Individuals with Long-Term Physical Disabilities. The goal of this proposed priority is to advance knowledge and accelerate the development, modification, and evaluation of evidence-based interventions and strategies that can be applied in clinical and community-based settings to promote healthy aging and to reduce secondary conditions for individuals with physical disabilities. To achieve these goals, NIDRR encourages collaborations among rehabilitation and aging researchers and between academic research centers and community organizations serving individuals aging with disabilities.

References

Brault, M.W. (2012). Americans with Disabilities: 2010, Current Population Reports, P70-131. U.S. Census Bureau, U.S. Department of Commerce. Washington, DC. Available from www.census.gov/prod/2012pubs/p70-131.pdf. Accessed December 18, 2012.

Freid, V.M., Bernstein, A.B., & Bush, M.A. (2012). Multiple Chronic Conditions among Adults Aged 45 and Over: Trends Over the Past 10 Years. NCHS Data Brief, no. 100. Hyattsville, MD: National Center for Health Statistics. Available from: www.cdc.gov/nchs/data/databriefs/db100.htm. Accessed December 18, 2012.

Groah, S.L., Charlifue, S., Tate, D., Jensen, M.P., Molton, I.R., Forchheimer, M., Krause, J.S., Lammertse, D.P., & Campbell, M. (2012). Spinal Cord Injury and Aging: Challenges and Recommendations for Future Research. American Journal of Physical Medicine & Rehabilitation, 91(1): 80. doi: 10.1097/PHM.0b013e31821f70bc. Available from: http://journals.lww.com/ajpmr/Abstract/2012/01000/Spinal_Cord_Injury_and_Aging__Challenges_and.10.aspx. Accessed December 18, 2012.

Groah S.L., & Kehn, M.E. (2010). The State of Aging and Public Health for People with Spinal Cord Injury: Lost in Transition? Topics in Spinal Cord Injury Rehabilitation, 15(3): 10. doi: 10.1310/sci1503-1. Available from: http://thomasland.metapress.com/content/p6837l6448kp3211/fulltext.pdf. Accessed December 18, 2012.

Harrison, T. (2006). Health Promotion for Persons with Disabilities: What Does the Literature Reveal? Family Community Health Supplement, 29(1S): 12S. Available from: www.nursingcenter.com/lnc/journalarticle?Article_ID=622107. Accessed December 18, 2012.

Healthy People 2020 (2010). U.S. Department of Health and Human Services, Office of Disease Prevention and Health Promotion. Available from: www.healthypeople.gov/2020/topicsobjectives2020/objectiveslist.aspx?topicId=9, and www.healthypeople.gov/2020/topicsobjectives2020/ebr.aspx?topicId=9. Accessed December 18, 2012.

Iezzoni, L.I. (2010). Multiple Chronic Conditions and Disabilities: Implications for Health Services Research and Data Demands. Health Services Research, 45(5 Pt 2): 1523. doi: 10.1111/j.1475-6773.2010.01145.x. Epub 2010 Aug 2. Available from: www.freepatentsonline.com/article/Health-Services-Research/238476482.html. Accessed December 18, 2012.

Institute of Medicine (IOM) (2007). The Future of Disability in America. Field, M.J., & Jette, A.M., editors. Washington, DC: National Academies Press.

Jensen, M.P., Molton, I.R., Groah, S.L., Campbell, M.L., Charlifue, S., Chiodo, A., Forchheimer, M., Krause, J.S., & Tate, D. (2011). Secondary Health Conditions in Individuals Aging with SCI: Terminology, Concepts, and Analytic Approaches. Spinal Cord, 50(5): 373-378.

Kemp, B.J., & Mosqueda, L. (Eds.) (2004). Aging with a Disability: What the Clinician Needs to Know. Baltimore, MD: Johns Hopkins University Press.

Kinny, S., Patrick, D.L., & Doyle, D.L. (2004). Prevalence of Secondary Conditions among People with Disabilities. American Journal of Public Health, 94(3): 443-445.

Ravesloot, C.H., Seekins, T., Cahill, T., Lindgren, S., Nary, D.E., & White, G. (2007). Health Promotion for People with Disabilities: Development and Evaluation of the Living Well with a Disability Program. Health Education Research 22(4): 522. doi:10.1093/her/cyl114.

Ravesloot, C., Seekins, T., & White, G. (2005). Living Well with a Disability Health Promotion Intervention: Improved Health Status for Consumers and Lower Costs for Healthcare Policy Makers. Rehabilitation Psychology, 50: 239-45.

Rimmer, J.H., Braunschweig, C., & Silverman, K (2000). Effects of a Short-Term Health Promotion Intervention for a Predominantly African-American Group of Stroke Survivors. American Journal of Preventive Medicine, 18: 332.

Verbrugge, L.M., & Yang, L.S. (2002). Aging with Disability and Disability with Aging. Journal of Disability Policy Studies, 12(4): 253-267.

Washko, M., Campbell, M.L., & Tilly, J.A. (2012). Accelerating the Translation of Research into Practice in Long-Term Services and Supports: A Critical Need for Federal Infrastructure at the Nexus of Aging and Disability. Journal of Gerontological Social Work, 55(2): 112-125.

Definitions

The research that is proposed under this priority must be focused on one or more stages of research. If the RRTC is to conduct research that can be categorized under more than one research stage, or research that progresses from one stage to another, those research stages must be clearly specified. For purposes of this priority, the stages of research, which we published for comment on January 25, 2013 (78 FR 5330), are:

(i) Exploration and Discovery means the stage of research that generates hypotheses or theories by conducting new and refined analyses of data, producing observational findings, and creating other sources of research-based information. This research stage may include identifying or describing the barriers to and facilitators of improved outcomes of individuals with disabilities, as well as identifying or describing existing practices, programs, or policies that are associated with important aspects of the lives of individuals with disabilities. Results achieved under this stage of research may inform the development of interventions or lead to evaluations of interventions or policies. The results of the exploration and discovery stage of research may also be used to inform decisions or priorities.

(ii) Intervention Development means the stage of research that focuses on generating and testing interventions that have the potential to improve outcomes for individuals with disabilities. Intervention development involves determining the active components of possible interventions, developing measures that would be required to illustrate outcomes, specifying target populations, conducting field tests, and assessing the feasibility of conducting a well-designed intervention study. Results from this stage of research may be used to inform the design of a study to test the efficacy of an intervention.

(iii) Intervention Efficacy means the stage of research during which a project evaluates and tests whether an intervention is feasible, practical, and has the potential to yield positive outcomes for individuals with disabilities. Efficacy research may assess the strength of the relationships between an intervention and outcomes, and may identify factors or individual characteristics that affect the relationship between the intervention and outcomes. Efficacy research can inform decisions about whether there is sufficient evidence to support “scaling-up” an intervention to other sites and contexts. This stage of research can include assessing the training needed for wide-scale implementation of the intervention, and approaches to evaluation of the intervention in real world applications.

(iv) Scale-Up Evaluation means the stage of research during which a project analyzes whether an intervention is effective in producing improved outcomes for individuals with disabilities when implemented in a real-world setting. During this stage of research, a project tests the outcomes of an evidence-based intervention in different settings. The project examines the challenges to successful replication of the intervention, and the circumstances and activities that contribute to successful adoption of the intervention in real-world settings. This stage of research may also include well-designed studies of an intervention that has been widely adopted in practice, but that lacks a sufficient evidence-base to demonstrate its effectiveness.

Proposed Priority:

The Assistant Secretary for Special Education and Rehabilitative Services proposes a priority for an RRTC on Promoting Healthy Aging for Individuals with Long-Term Physical Disabilities. The RRTC must contribute to the development of new knowledge and accelerate the development, modification, and evaluation of evidence-based interventions and strategies that can be applied in clinical and community-based settings to promote healthy aging, including reducing secondary conditions, of individuals with long-term physical disabilities.

To contribute to this outcome the RRTC must—

(a) Conduct research activities in one or more of the following priority areas, focusing on individuals aging with long-term physical disabilities as a group or on individuals in specific disability or demographic subpopulations of individuals with long-term physical disabilities:

(i) Individual and environmental factors associated with improved access to rehabilitation and health care resulting in improved health and function outcomes for individuals aging with long-term physical disabilities.

(ii) Interventions that contribute to improved health and function outcomes for individuals aging with long-term physical disabilities. Interventions include any strategy, practice, program, policy, or tool that, when implemented as intended, contributes to improvements in outcomes for the specified population.

(iii) Effects of government practices, policies, and programs on health care access and on health and function outcomes for individuals aging with long-term physical disabilities.

(iv) Technology to improve health and function outcomes for individuals aging with long-term physical disabilities;

(b) Focus its research on one or more specific stages of research. If the RRTC is to conduct research that can be categorized under more than one of the research stages, or research that progresses from one stage to another, those stages must be clearly specified. These stages and their definitions are provided in the “Definitions” section of this notice;

(c) Serve as a national resource center related to health and function for individuals aging with long-term physical disabilities, their families, and other stakeholders by:

(i) Providing information and technical assistance to service providers, individuals aging with long-term physical disabilities and their representatives, and other key stakeholders;

(ii) Providing training, including graduate, pre-service, and in-service training, to rehabilitation providers and other disability service providers, to facilitate more effective delivery of services to individuals aging with long-term physical disabilities. This training may be provided through conferences, workshops, public education programs, in-service training programs, and similar activities;

(iii) Disseminating research-based information and materials related to health and function for individuals aging with long-term physical disabilities; and

(d) Involve key stakeholder groups in the activities conducted under paragraph (a) in order to maximize the relevance and usability of the new knowledge generated by the RRTC.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Priority:

We will announce the final priority in a notice in the Federal Register. We will determine the final priority after considering responses to this notice and other information available to the Department. This notice does not preclude us from proposing additional priorities, requirements, definitions, or selection criteria, subject to meeting applicable rulemaking requirements.

Note: This notice does not solicit applications. In any year in which we choose to use this priority, we invite applications through a notice in the Federal Register.

Executive Orders 12866 and 13563

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This proposed regulatory action is not a significant regulatory action subject to review by OMB under section 3(f) of Executive Order 12866.

We have also reviewed this regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing this proposed priority only upon a reasoned determination that its benefits would justify its costs. In choosing among alternative regulatory approaches, we selected those approaches that would maximize net benefits. Based on the analysis that follows, the Department believes that this regulatory action is consistent with the principles in Executive Order 13563.

We also have determined that this regulatory action would not unduly interfere with State, local, and tribal governments in the exercise of their governmental functions.

In accordance with both Executive orders, the Department has assessed the potential costs and benefits, both quantitative and qualitative, of this regulatory action. The potential costs are those resulting from statutory requirements and those we have determined as necessary for administering the Department's programs and activities.

The benefits of the Disability and Rehabilitation Research Projects and Centers Program have been well established over the years. Projects similar to the RRTC have been completed successfully, and the proposed priority will generate new knowledge through research. The new RRTC will generate, disseminate, and promote the use of new information that would improve outcomes for individuals with disabilities in the areas of community living and participation, employment, and health and function.

Intergovernmental Review: This program is not subject to Executive Order 12372 and the regulations in 34 CFR part 79.

Accessible Format: Individuals with disabilities can obtain this document in an accessible format (e.g., braille, large print, audiotape, or compact disc) by contacting the Grants and Contracts Services Team, U.S. Department of Education, 400 Maryland Avenue SW., room 5075, PCP, Washington, DC 20202-2550. Telephone: (202) 245-7363. If you use a TDD or TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: March 1, 2013.
Michael Yudin,
Acting Assistant Secretary for Special Education and Rehabilitative Services.

[FR Doc. 2013-05227 Filed 3-5-13; 8:45 am]

BILLING CODE 4000-01-P